DEPARTMENT OF LABOR

Office of the Secretary

Submission for OMB Review; Comment Request

July 28, 2000.

The Department of Labor (DOL) has submitted the following public information collection requests (ICRs) to the Office of Management and Budget (OMB) for review and approval in accordance with the Paperwork Reduction Act of 1995 (Pub. L. 104-13, 44 U.S.C. chapter 35). A copy of each individual ICR, with applicable supporting documentation, may be obtained by calling the Department of Labor. To obtain documentation for BLS, ETA, PWBA, and OASAM contact Karin Kurz ((202) 219-5096 ext. 159 or by E-mail to Kurz-Karin@dol.gov). To obtain documentation for ESA, MSHA, OSHA, and VETS contact Darrin King ((202) 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Occupational Safety and Health Administration (OSHA).

Title: Ethylene Oxide.

OMB Number: 1218-0108.

Affected Public: Business or other for-profit; Federal Government; State, Local, or Tribal Government.

Frequency: On occasion.

Number of Respondents: 5,782.

Number of Annual Responses: 232,564.

Estimated Time Per Response: Varies from 5 minutes to provide information to the examining physician to 10 hours to develop a compliance plan.

Total Burden Hours: 49,200.

Total Annualized Capital/Startup Costs: $0.

Total Annual Costs (operating/maintaining systems or purchasing services): $7,056,200.

Description: The information-collection requirements specified in the Ethylene Oxide (EtO) Standard protect employees from the adverse health effects that may result from their exposure to EtO. The major information-collection requirements of the EtO Standard include notifying employees of their EtO exposures, implementing a written compliance program, providing examining physicians with specific information, ensuring that employees receive a copy of their medical-examination results, maintaining employees' exposure-monitoring and medical records for specific periods, and providing access to these records by OSHA, the National Institute for Occupational Safety and Health, the affected employees, and their authorized representatives.

Type of Review: Extension of a currently approved collection.

Agency: Occupational Safety and Health Administration (OSHA).

Title: Electrical Power Generation, Transmission, and Distribution.

OMB Number: 1218-0190.

Affected Public: Business or other for-profit; Not-for-profit institutions; Federal Government; State, Local, or Tribal Government.

Frequency: On occasion, Semi-annually, Annually.

Number of Respondents: 11,703.

Number of Annual Responses: 515,094.

Estimated Time Per Response: Varies from one minute to 15 minutes.

Total Burden Hours: 34,496.

Total Annualized Capital/Startup Costs: $0.

Total Annual Costs (operating/maintaining systems or purchasing services): $0.

Description: The Occupational Safety and Health Act of 1970 (the Act) authorizes information collection by employers as necessary or appropriate for enforcement of the Act or for developing information regarding the causes and prevention of occupational injuries, illnesses, and accidents. (29 U.S.C. 657). Under paragraph 1910.137(a)(2)(vii), employers must certify that the electrical protective3 equipment used by their employees passed the tests specified in paragraphs (b)(2)(viii), (b)(2)(ix), and (b)(2)(xi) of the standard. The certification must identify the equipment that passed the test and the date of the test. This provision ensures that electrical protective equipment is reliable and safe for employee use and will provide adequate protection against electrical hazards. In addition, certification enables OSHA to determine if employers are in compliance with the equipment testing requirements of the standard.

Paragraph 1910.269(a)(2)(vii) of the Electric Power Generation, Transmission, and Distribution standard requires employers to certify that each employee received the training specified in paragraph (a)(2) of the standard. Employers must provide certification after an employee demonstrates proficiency in the work practices involved.

The training conducted under paragraph (a)(2) of the standard must also ensure that: Employees are familiar with the safety-related work practices, safety procedures, and other procedures, as well as any additional safety requirements in this standard, that pertain to their respective job assignments; employees are familiar with any other safety practices, including applicable emergency procedures (such as pole top and manhole rescue), addressed specifically by this standard that relate to their work and are necessary for their safety; and qualified employees have the skills and techniques necessary to distinguish exposed live parts from other parts of electric equipment, can determine the nominal voltage of the exposed live parts, know the minimum approach distances specified by this standard for voltages when exposed to them, and understand the proper use of special precautionary techniques, personal protective equipment, insulating and shielding materials, and insulated tools for working on or near exposed and energized parts of electric equipment.

Employees must receive additional training or retraining if: The supervision and annual inspections required by paragraph (a)(2)(iii) of this standard indicate that they are not complying with the required safety-related work practices; new technology or equipment, or revised procedures, require the use of safety-related work practices that differ from their usual safety practices; and they use safety-related work practices that are different than their usual safety practices while performing job duties.

The training requirements of this standard inform employees of the safety hazards of electrical exposure and provide them with the understanding required to minimize these safety hazards. In addition, employees receive proper training in safety-related work practices, safety procedures, and other safety requirements specified in the standard. The required training, therefore, provides information to employees that enables them to recognize how and where electrical exposures occur, and what steps to take, including work practices, to limit such exposure. Accordingly, the certification requirements specified by paragraph (a)(2)(vii) of the standard permits OSHA to determine if employers provided the required training to their employees.

Type of Review: Extension of a currently approved collection.

Agency: Mine safety and Health Administration (MSHA).

Title: Ground Control Plan.

OMB Number: 1219-0026.

Affected Public: Business or other for-profit.

Frequency: On occasion.

Number of Respondents: 159.

Number of Annual Responses: 159.

Estimated Time Per Response: Varies from 9 hours for new plans to 5 for revised plans.

Total Burden Hours: 1,404.

Total Annualized capital/startup costs: $0.

Total annual costs (operating/maintaining systems or purchasing services): $52.

Description: Ground control plans are reviewed by MSHA to ensure that surface coal mine operators' methods of controlling highwalls and spoil banks are consistent with prudent engineering design and will ensure safe working conditions for miners.

Type of Review: Extension of a currently approved collection.

Agency: Bureau of Labor Statistics (BLS).

Title: Consumer Expenditure Surveys: The Diary and Quarterly Interview.

OMB Number: 1220-0050.

Affected Public: Individuals or households.

Form | Total respondents | Frequency | Total responses | Average time per response (in minutes) | Estimated total burden
Quarterly—CE-300, CE-301, CE-302 | 9,975 | Quarterly | 39,900 | 90 Min | 59,850
Reinterview—CE-380, CE-386 | 2,195 | Annual | 2,195 | 15 Min | 549
Diary—CE-802 Recordkeeping | 8,241 | 2 Weeks |  | 105 Min | 28,844
Diary—CE-801 | 8,241 | 3 Visits/2 Week Period | 24,723 | 25 Min | 10,302
Reinterview—CE-880, CE-880(N) | 1,376 | One-time | 1,376 | 12 Min | 275
Totals | 18,216 |  | 68,194 | 71 Min | 99,820

Total annualized capital/startup costs: $0.

Total annual costs (operating/maintaining systems or purchasing services): $0.

Description: The Consumer Expenditure Surveys are used to gather information on expenditures, income and other related subjects. These data are used to periodically update the national Consumer Price Index. In addition the data are used by a variety of researchers in academia, government agencies, and the private sector. The data are collected from a national probability sample of households designed to represent the total civilian non-institutional population.

Ira L. Mills,
Departmental Clearance Officer.

[FR Doc. 00-19777 Filed 8-3-00; 8:45 am]

BILLING CODE 4510-26-M